DEPARTMENT OF LABOR

Employment and Training Administration

[TA-W-70,261]

Stimson Lumber Company Clatskanie, OR; Notice of Revised Determination on Remand

On November 15, 2010, the United States Court of International Trade (USCIT) granted the Department of Labor's request for voluntary remand to conduct further investigation in Former Employees of Stimson Lumber Company v. United States Secretary of Labor, Court No. 10-00278.

On May 18, 2009, the International Association of Machinists and Woodworkers, Local Lodge W-536 (Union) filed a petition for Trade Adjustment Assistance (TAA) with the Department of Labor (Department) on behalf of workers and former workers of Stimson Lumber Company, Clatskanie, Oregon (subject firm). Workers at the subject firm (subject worker group) are engaged in the production of softwood lumber products. The worker group does not include on-site leased workers.

On February 19, 2010, the Department issued a Negative Determination regarding eligibility to apply for TAA applicable to workers and former workers of the subject firm. The Department's Notice of determination was published in the Federal Register on March 12, 2010 (75 FR 11925).

The Department's initial findings revealed that the subject firm did not import articles like or directly competitive with those produced by the workers, shift the production of these articles abroad, or acquire these articles from a foreign country during the period under investigation. The survey conducted of the subject firm's major declining customers revealed a decline in imports when compared to purchases made from the subject firm.

The Department had also reviewed aggregate data that confirmed that U.S. imports of softwood lumber products like or directly competitive with those produced by the subject worker group declined when compared to domestic production. Consequently, the Department determined that the group eligibility requirements under Section 222 of the Trade Act, as amended, had not been met.

By application dated March 11, 2010, the Union requested administrative reconsideration on the Department's negative determination. The request for reconsideration stated that the worker separations in the subject worker group were a result of competition with Canadian imports. The Union also alleged that because Hampton Lumber Mills-Washington, Inc., Morton Division, Morton, Washington, whose workers are eligible to apply for TAA as primary workers under TA-W-72,129, is an upstream supplier of Stimson Lumber Company, workers at the subject firm are eligible to apply for TAA as adversely affected secondary workers.

Section 222(d) of the Act, 19 U.S.C. 2272(d), defines the term “Supplier” as “a firm that produces and supplies directly to another firm component parts for articles, or services used in the production of articles or in the supply of services, as the case may be, that were the basis for a certification of eligibility under subsection (a) [of Section 222 of the Act] of a group of workers employed by such other firm.”

During the investigation regarding the application for reconsideration, the Department confirmed that the subject worker group did not qualify as secondarily affected workers because the products manufactured at the subject firm were not used as a component part in the production of lumber that was the basis of the primary certification that is applicable to workers at Hampton Lumber Mills-Washington, Inc., Morton Division, Morton, Washington.

Because the petitioner did not provide information that had not been previously considered, the Department issued a Negative Determination Regarding Application for Reconsideration applicable to workers at the subject firm on July 8, 2010. The Department's Notice was published in the Federal Register on July 16, 2010 (75 FR 41529).

In the complaint to the USCIT, dated August 4, 2010, the Plaintiffs claimed that workers at the subject firm were impacted by Canadian imports of articles like or directly competitive with those produced by the subject firm. The Plaintiffs also claimed that “the main competitors of the Stimson Mill are TAA certified because of foreign competition from the Canadian softwood dimensional lumber imports.”

On November 8, 2010, the Department requested voluntary remand to conduct further investigation to address the allegations made by the Plaintiffs, to determine whether the subject worker group is eligible to apply for TAA, and to issue an appropriate determination. On November 15, 2010, the USCIT granted the Department's Motion for voluntary remand.

For a worker group to be certified eligible to apply for TAA based on increased imports, all of the following criteria must be satisfied:

A. A significant number or proportion of the workers in such workers' firm, or an appropriate subdivision of the firm, have become totally or partially separated, or are threatened to become totally or partially separated;

B. The sales or production, or both, of such firm or subdivision have decreased absolutely; and

C. Increased imports of articles like or directly competitive with articles produced by such firm or subdivision have contributed importantly to such workers' separation or threat of separation and to the decline in sales or production of such firm or subdivision.

During the remand investigation, the Department carefully reviewed previously submitted information, obtained additional information from the subject firm, solicited input from the Plaintiffs, collected and reviewed additional U.S. import aggregate data on softwood lumber, and conducted an extensive customer survey.

The Department's findings on remand confirmed that the subject firm did not shift to a foreign country the production of articles like or directly competitive with those produced by the subject worker group, acquire these products from foreign sources, or import these articles or articles like or directly competitive with those produced by the subject worker group during the relevant time period.

During the remand investigation, the Department surveyed a significant proportion of the subject firm's declining customers regarding import purchases of large wood products, such as timbers, cross arms, and crane mats and like or directly competitive articles with those produced at the subject firm during 2008, 2009, and 2010. The Department also considered in conducting the survey any overlapping customers between the subject firm and firms that produce like or directly competitive products that, according to the Plaintiffs, are competitors of the subject firm.

The expanded customer survey revealed that imports of articles like or directly competitive with the softwood lumber articles produced at the subject firm declined in the first period under investigation. However, customers' purchases made from the subject firm also declined during the same time period but at a faster rate. During the second period under investigation, customers' import purchases increased significantly compared to purchases made from the subject firm. Overall, the surveyed customers displayed an increased reliance on import purchases of articles like or directly competitive with the softwood lumber products manufactured by the subject worker group relative to purchases made from the subject firm during the period under investigation.

Based on the new information obtained during the remand investigation, the Department determines that an increased reliance on imports by customers of the subject firm, of articles like or directly competitive with softwood lumber products manufactured by the subject firm, contributed importantly to the separations in the subject worker group and to the decline in subject firm sales and production.

Conclusion

After careful review of the information obtained during the remand investigation, I determine that increased imports of articles like or directly competitive with softwood lumber products manufactured by the subject firm contributed importantly to the total separation of a significant number or proportion of workers at the subject firm. In accordance with the provisions of the Act, I make the following certification:

All workers of Stimson Lumber Company, Clatskanie, Oregon, who became totally or partially separated from employment on or after May 18, 2008, through two years from the date of this revised certification, and all workers in the group threatened with total or partial separation from employment on date of certification through two years from the date of certification, are eligible to apply for adjustment assistance under Chapter 2 of Title II of the Trade Act of 1974, as amended.

Signed at Washington, DC, this 14th day of February, 2011.
Del Min Amy Chen,
Certifying Officer, Office of Trade Adjustment Assistance.

[FR Doc. 2011-4092 Filed 2-23-11; 8:45 am]

BILLING CODE 4510-FN-P